Title 3—

The President

Proclamation 9985 of January 31, 2020

American Heart Month, 2020

By the President of the United States of America

A Proclamation

As the leading cause of death for both men and women nationwide, heart disease devastates hundreds of thousands of families every year. During American Heart Month, we pause to remember the lives lost to heart disease and the families who mourn, and we reaffirm our commitment to preventing and treating this terrible disease that inflicts immeasurable pain and suffering.

Evidence-based research has identified several critical risk factors that contribute to heart disease, including elevated blood pressure and cholesterol, physical inactivity, excess body weight, high salt intake, smoking, age, and family history. According to the Centers for Disease Control and Prevention, about half of all Americans have at least one of three key risk factors: high blood pressure, high blood cholesterol, or a history of smoking. While some risk factors are unchangeable, most are avoidable with behavior modification and lifestyle changes like eating a healthy diet, moderating alcohol consumption, exercising regularly, and avoiding smoking. Making small, incremental changes and creating healthier habits can lead to life-saving benefits. We must all take decisive action to control our cardiovascular health and support and motivate friends and family members in their efforts to curb unhealthy behaviors. Community groups, educators, and fitness and healthcare professionals can also provide guidance, support, accountability, and encouragement on the journey to better health.

American innovation and medical advancements continue to improve treatment options for those who have experienced heart disease. Medical procedures to treat heart conditions are more precise, using less invasive techniques with fewer complications and faster recovery times. Additionally, we have developed medications to more effectively treat high blood pressure, high blood cholesterol, and type 2 diabetes, all conditions that contribute to an increased risk of heart disease. We also commend the dedicated healthcare professionals, physical therapists, counselors, volunteers, and educators who make a positive impact in the lives of those battling heart disease and undergoing cardiac rehabilitation.

Every year, millions of Americans suffer from the healthcare costs, physical disabilities, and premature death caused by cardiovascular diseases and conditions. We can—and must—work to save lives and reverse the somber statistics and cruel grip that heart disease has on our Nation's families. Thanks to scientific research, medical advances, and healthy lifestyle choices, much of the power to combat this disease is within our grasp. During American Heart Month, I urge all men and women to prioritize their health and to take the necessary measures to lead a heart-healthy lifestyle.

In acknowledgement of the importance of the ongoing fight against cardiovascular disease, the Congress, by Joint Resolution approved on December 30, 1963, as amended (36 U.S.C. 101), has requested that the President issue an annual proclamation designating February as American Heart Month.

NOW, THEREFORE, I, DONALD J. TRUMP, President of the United States of America, do hereby proclaim February 2020 as American Heart Month, and I invite all Americans to participate in National Wear Red Day on February 7, 2020. I also invite the Governors of the States, the Commonwealth of Puerto Rico, officials of other areas subject to the jurisdiction of the United States, and the American people to join me in recognizing and reaffirming our commitment to fighting cardiovascular disease.

IN WITNESS WHEREOF, I have hereunto set my hand this thirty-first day of January, in the year of our Lord two thousand twenty, and of the Independence of the United States of America the two hundred and forty-fourth.

[FR Doc. 2020-02427

Filed 2-4-20; 11:15 am]

Billing code 3295-F0-P